INTER-AMERICAN FOUNDATION

Sunshine Act Meetings

TIME AND DATE: January 23, 2023, ET. 10:00 a.m.-12:00 p.m.

PLACE: Via Zoom.

STATUS: Meeting of the Board of Directors and Advisory Council, open to the public

MATTERS TO BE CONSIDERED:

Call to Order and Welcome by Board Chair

Overview of Meeting Rules by Acting General Counsel

Approval of minutes from November 15, 2022 meeting

Introductory Remarks by President and CEO

Discussion on IAF's Learning Agenda and Fellows relaunch

Discussion on Board Trip Logistics

Adjournment

CONTACT PERSON FOR MORE INFORMATION: Nicole Stinson, Associate General Counsel, (202) 683-7117.

For Dial-in Information Contact: Nicole Stinson, Associate General Counsel, (202) 683-7117.

The Inter-American Foundation is holding this meeting under the Government in the Sunshine Act, 5 U.S.C. 552(b).

Nicole Stinson,
Associate General Counsel.

[FR Doc. 2023-00318 Filed 1-6-23; 11:15 am]

BILLING CODE 7025-01-P